Title 3—

The President

Proclamation 10238 of August 13, 2021

National Employer Support of the Guard and Reserve Week, 2021

By the President of the United States of America

A Proclamation

Since our founding, courageous men and women have vowed to serve and defend our country, protect our citizens, and uphold the principles of our Constitution. The citizen Soldiers and Airmen of the National Guard, and the Soldiers, Sailors, Airmen, Marines, and Coast Guardsmen of the Reserve, proudly carry on this tradition today. During National Employer Support of the Guard and Reserve Week, we thank and celebrate the civilian employers whose support of our National Guard and Reserve members helps to sustain our all-volunteer force and our national spirit of service.

National Guard and Reserve members are essential to the safety and security of our Nation, ready to serve at home or abroad at any moment's notice. From working on the frontlines of the COVID-19 pandemic, to responding to storm damage and raging wildfires, to deploying overseas, supporting peacekeeping missions abroad, and conducting multilateral exercises with allies and partner nations, National Guard and Reserve members put their lives on hold—away from both their families and their civilian workplaces—to stand as a shield or a support whenever our country is in need. When they complete their mission, National Guard and Reserve members return to their civilian careers and fulfill their obligation of monthly weekend drills and annual trainings—always ensuring they are ready to answer the next call to serve.

We owe a profound gratitude to our National Guard and Reserve members, as well as their civilian employers. In supporting their talented employees' service to our Nation, employers of National Guard and Reserve members directly contribute to our military readiness and our national security. As our Guard and Reserve members navigate the challenges that accompany their service, many civilian employers go above and beyond to support our service members and their families. National Guard and Reserve members should not have to worry about their civilian employment while they are serving on a mission, and many employers are stepping up with generous pay and leave policies, extension of benefits like health care for family members, and flexibility and support for Guard and Reserve spouses to help fulfill our sacred obligation as a Nation to always take care of those who serve in uniform.

My Administration understands the national security imperative behind improving the well-being of our service members and their families as they balance the pressures of their civilian careers with the demands of military service. Through the First Lady's work with Joining Forces, we are committed to supporting military and veteran families, caregivers, and survivors through economic and entrepreneurship opportunities, support for military child education, and health and well-being resources. Ensuring continuing economic opportunities for military and veteran families through meaningful employment is essential, and we are grateful for all of the employers who understand the value in hiring and retaining National Guard and Reserve members and their spouses.

The Biden family is a National Guard family, and we are forever grateful and in awe of those who, like our son Beau, understand that duty and service to others is what makes us who we are as Americans. We understand some of the unique challenges that National Guard and Reserve members and their families face—challenges that are made smaller because of the incredible, patriotic support of their employers. I encourage all Americans to join me in recognizing and thanking employers of our National Guard and Reserve members for their vast contributions to our economy, our communities, and the success of our Nation and our Armed Forces. I also encourage National Guard and Reserve members to recognize their employers who have gone above and beyond in supporting them with the Employer Support of the Guard and Reserve (ESGR), the Department of Defense program that promotes cooperation and understanding between civilian employers and their National Guard and Reserve employees.

NOW, THEREFORE, I, JOSEPH R. BIDEN JR., President of the United States of America, by virtue of the authority vested in me by the Constitution and the laws of the United States, do hereby proclaim August 15 through August 21, 2021, as National Employer Support of the Guard and Reserve Week. I call upon the people of the United States, State and local officials, private organizations, and all military commanders to honor employers of National Guard and Reserve members with appropriate ceremonies and activities.

IN WITNESS WHEREOF, I have hereunto set my hand this thirteenth day of August, in the year of our Lord two thousand twenty-one, and of the Independence of the United States of America the two hundred and forty-sixth.

[FR Doc. 2021-17801

Filed 8-17-21; 8:45 am]

Billing code 3295-F1-P